DEPARTMENT OF TRANSPORTATION

Federal Railroad Administration

Petitions for Waivers of Compliance

In accordance with part 211 of Title 49 Code of Federal Regulations (CFR), notice is hereby given that the Federal Railroad Administration (FRA) has received a request for waiver of compliance with certain requirements of its safety standards. The individual petition is described below, including the party seeking relief, the regulatory provisions involved, the nature of the relief being requested and the petitioner's arguments in favor of relief.

Sound Transit

[Docket Number FRA-2000-8266]

Sound Transit seeks a permanent waiver of compliance from Title 49 of the CFR for operation of a new “Tacoma Line” light rail line at a “limited connection” with The Burlington Northen and Santa Fe Railway Company (BNSF). Sound Transit is building the Tacoma Link, which will intersect the BNSF Prairie Line at a rail crossing located in the City of Tacoma, Washington. The Tacoma Line will be within a highway at the rail grade crossing.

Sound Transit originally submitted a waiver petition on September 25, 2000, seeking relief from the Passenger Equipment Safety Standards (49 CFR part 238), as Tacoma Link is a light rail transit operation except for the minor crossing connection. On July 20, 2001, Sound Transit amended their original petition to also include relief from Part 223, Safety Glazing Standards—Locomotives, Passenger Cars and Cabooses; Part 231, Railroad Safety Appliance Standards; Part 219, Control of Alcohol and Drug Use; Part 220, Railroad Communications, and Part 239, Passenger Train Emergency Preparedness.

Sound transit indicates that BNSF is subject to FRA's regulations and maintains and operates certain elements of the rail crossing for the proposed project. Sound Transit also states that the requirements for its light rail vehicles should be considered as similar to buses, autos, and all other street vehicles, wherein efforts are put into having warning equipment and procedures to reduce the probability and severity of an accident. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

Since FRA has not yet concluded its investigation of the Tacoma Link, the agency takes no position at this time on the merits of Sound Transit's stated justifications.

Interested parties are invited to participate in this proceeding by submitting written views, data, or comments. FRA does not anticipate scheduling a public hearing in connection with the request for a waiver of certain regulatory provisions. If any interested party desires an opportunity for oral comment, he or she should notify FRA, in writing, before the end of the comment period and specify the basis for his or her request. All communications concerning these proceedings should identify the appropriate docket number (Docket Number FRA 2000-8266) and must be submitted to the DOT Docket Management Facility, Room PL-401 (Plaza level) 400 Seventh Street, SW., Washington, DC 20590. All documents in the public docket, including Sound Transit's detailed waiver request, are also available for inspection and copying on the Internet at the docket facility's Web site at http://dms.dot.gov. Communications received within 30 days of the date of this notice will be considered by FRA before final action is taken. Comments received after that date will be considered as far as practicable. All written communications concerning this proceeding are available for examination during regular business hours (9 a.m.—5 p.m.) at the above facility.

Issued in Washington, D.C. on August 15, 2001.
Grady C. Cothen, Jr.,
Deputy Associate Administrator for Safety Standards and Program Development.

[FR Doc. 01-21080 Filed 8-20-01; 8:45 am]

BILLING CODE 4910-06-P